DEPARTMENT OF LABOR

Employee Benefits Security Administration

211th Meeting of the Advisory Council on Employee Welfare and Pension Benefit Plans; Notice of Meeting

Pursuant to the authority contained in Section 512 of the Employee Retirement Income Security Act of 1974 (ERISA), 29 U.S.C. 1142, the 211th open meeting of the Advisory Council on Employee Welfare and Pension Benefit Plans (also known as the ERISA Advisory Council) will be held on July 18-20, 2022.

On Monday, July 18, 2022, the meeting will begin at 1 p.m. and end at approximately 4:30 p.m. (ET). On Tuesday, July 19, 2022, the meeting will begin at 8:30 a.m. and end at approximately 4:30 p.m. (ET), with a one-hour break for lunch. On Wednesday, July 20, 2022, the meeting will begin at 8:30 a.m. and end at approximately 1 p.m. (ET).

The three-day meeting will take place at the U.S. Department of Labor, 200 Constitution Avenue NW, Washington, DC 20210 in Room N5437 A-D. The meeting will also be accessible via teleconference and some participants, as well as members of the public, may elect to attend virtually. Instructions for public teleconference access will be available on the ERISA Advisory Council's web page at https://www.dol.gov/agencies/ebsa/about-ebsa/about-us/erisa-advisory-council approximately one week prior to the meeting.

The purpose of the open meeting is for Advisory Council members to hear testimony from invited witnesses and to receive an update from the Employee Benefits Security Administration (EBSA).

The Advisory Council will study the following topics: (1) Cybersecurity Issues Affecting Health Benefit Plans, and (2) Cybersecurity Insurance and Employee Benefit Plans. Descriptions of these topics, once finalized, as well as an agenda for the meeting, will be available on the ERISA Advisory Council's web page at https://www.dol.gov/agencies/ebsa/about-ebsa/about-us/erisa-advisory-council.

Organizations or members of the public wishing to submit a written statement may do so on or before Monday, July 11, 2022, to Christine Donahue, Executive Secretary, ERISA Advisory Council. Statements should be transmitted electronically as an email attachment in text or pdf format to donahue.christine@dol.gov. Statements transmitted electronically that are included in the body of the email will not be accepted. Relevant statements received on or before Monday, July 11, 2022, will be included in the record of the meeting and made available through the EBSA Public Disclosure Room. No deletions, modifications, or redactions will be made to the statements received as they are public records.

Individuals or representatives of organizations wishing to address the ERISA Advisory Council should forward their requests to the Executive Secretary on or before Monday, July 11, 2022, via email to donahue.christine@dol.gov or by telephoning (202) 693-8641. Oral presentations will be limited to ten minutes, time permitting, but an extended statement may be submitted for the record.

Individuals who need special accommodations should contact the Executive Secretary on or before Monday, July 11, 2022, via email to donahue.christine@dol.gov or by telephoning (202) 693-8641.

For more information about the meeting, contact the Executive Secretary at the address or telephone number above.

Signed at Washington, DC, this 7th day of June, 2022.
Ali Khawar,
Acting Assistant Secretary, Employee Benefits Security Administration.

[FR Doc. 2022-12570 Filed 6-9-22; 8:45 am]

BILLING CODE 4510-29-P